DEPARTMENT OF ENERGY

Federal Energy Regulatory Commission

18 CFR Part 352

[Docket No. AD12-6-001]

Retrospective Analysis of Existing Rules

AGENCY: Federal Energy Regulatory Commission, DOE.

ACTION: Notice of staff memorandum.

SUMMARY: In this document, the Commission is seeking public comment on whether the existing regulations concerning the Uniform Systems of Accounts prescribed for oil pipeline companies and hydropower prefiling requirements, and a requirement imposed in 2001 that Western public and non-public utilities offer available real-time electric energy capacity into the markets and post the availability on their Web sites and the WSPP Web site, warrant a formal public review.

DATES: Comments are due by May 26, 2015.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver comments to: Federal Energy Regulatory Commission, Secretary of the Commission, 888 First Street NE., Washington, DC 20426.

Instructions: For detailed instructions on submitting comments and additional information on the rulemaking process, see the Comment Procedures Section of this document.

FOR FURTHER INFORMATION CONTACT: Christy Walsh, Office of the General Counsel, Federal Energy Regulatory Commission, 888 First Street NE., Washington, DC 20426, 202-502-6523, Christy.Walsh@ferc.gov.

SUPPLEMENTARY INFORMATION: Take notice that the Commission staff is issuing a memorandum seeking public comment on whether the existing regulations concerning the Uniform Systems of Accounts prescribed for oil pipeline companies and hydropower prefiling requirements, and a requirement imposed in 2001 that Western public and non-public utilities offer available real-time electric energy capacity into the markets and post the availability on their Web sites and the WSPP Web site, warrant a formal public review. The memorandum is being issued pursuant to the November 8, 2011 Plan for Retrospective Analysis of Existing Rules prepared in response to Executive Order 13579, which requested independent regulatory agencies issue plans for periodic retrospective analysis of their existing regulations.

The Staff Memorandum is being placed in the record in the above-referenced administrative docket. The Staff Memorandum will also be available on the Commission's Web site at http://www.ferc.gov.

Comments on the Staff Memorandum should be filed within 30 days of the issuance of this document. The Commission encourages electronic submission of comments in lieu of paper using the “eFiling” link at http://www.ferc.gov. Persons unable to file electronically should submit an original of the comment to the Federal Energy Regulatory Commission, 888 First Street NE., Washington, DC 20426.

All filings in this docket are accessible on-line at http://www.ferc.gov, using the “eLibrary” link. There is an “eSubscription” link on the Web site that enables subscribers to receive email notification when a document is added to a subscribed docket. For assistance with any FERC Online service, please email FERCOnlineSupport@ferc.gov, or call (866) 208-3676 (toll free). For TTY, call (202) 502-8659.

Questions regarding this document should be directed to: Christy Walsh, Office of the General Counsel, Federal Energy Regulatory Commission, 888 First Street NE., Washington, DC 20426, 202-502-6523, Christy.Walsh@ferc.gov.

Issued: April 23, 2015.
Kimberly D. Bose,
Secretary.

[FR Doc. 2015-10310 Filed 5-4-15; 8:45 am]

BILLING CODE 6717-01-P